CONSUMER PRODUCT SAFETY COMMISSION

Sunshine Act Meeting

AGENCY: U.S. Consumer Product Safety Commission.

“FEDERAL REGISTER” CITATION OF PREVIOUS ANNOUNCEMENT: Vol. 66, No. 201, Wednesday, October 17, 2001, page 52747.

PREVIOUSLY ANNOUNCED TIME AND DATE OF MEETING: 10:00 a.m., Tuesday, October 23, 2001.

CHANGES IN MEETING: The Commission meeting regarding Purchaser Identification Card Program (ANPR) is canceled. The meeting has not been rescheduled at this time.

For a recorded message containing the latest agenda information, call (301) 504-009.

CONTACT PERSON FOR ADDITIONAL INFORMATION: Todd A. Stevenson, Office of the Secretary, 4330 East West Highway, Bethesda, MD 20207 (301) 504-0800.

Dated: October 19, 2001.
Todd A. Stevenson,
Acting Secretary.

[FR Doc. 01-26819 Filed 10-19-01; 3:14 pm]

BILLING CODE 6355-01-M